POSTAL SERVICE

Privacy Act; System of Records

AGENCY: Postal Service™.

ACTION: Notice of new system of records.

SUMMARY: The United States Postal Service™ (USPS™) is proposing to create a new Customer Privacy Act System of Records (SOR) to support the implementation of enhanced scanning functionality at the USPS Mail Recovery Center (MRC) in order to improve the customer experience. The new SOR will also bring related functions under one new SOR as described below.

DATES: These revisions will become effective without further notice on February 12, 2021, unless comments received on or before that date result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service has determined that the creation of a new USPS Customer Privacy Act System of Records (SOR), USPS 830.100 Mail Recovery Center Search and Inventory System Records is needed to support the implementation of enhanced scanning functionality and to consolidate other related functions performed by the MRC under one SOR.

I. Background

The Mail Recovery Center (MRC) receives USPS undeliverable mail, packages and other items that are characterized as being undeliverable as addressed (UAA). Some of the reasons that UAA mail, packages and items do not reach their destination include missing address or address components, inadequate postage, and incorrect or “bad” addresses that cannot be returned to sender. The Mail Recovery Center (MRC) receives USPS undeliverable mail, packages and items found within the Postal Service mail processing and delivery network. U.S. Postal Service policies and procedures related to processing and handling of undeliverable mail are outlined in the Administrative Support Manual (ASM), the Domestic Mail Manual (DMM) and the Postal Operations Manual (POM).

The MRC processes undeliverable mail, packages, and items found loose in the mail that are sent to the MRC. The MRC processes and handles undeliverable mail in keeping with USPS policies and procedures. Those mail pieces and contents that meet established criteria for retention are entered into inventory through the Mail Recovery Center System (MRCS) application. USPS customers are able to initiate a search request to attempt to locate their missing mail or items, either by asking a USPS employee to enter a search form on their behalf in the MRCS application, or by directly submitting a Missing Mail search request via USPS.COM®. A daily matching process within the MRCS application attempts to match inventory items to search form requests, so that the undeliverable mail or missing item can either be returned to the sender or delivered to its intended destination. During this matching process, USPS customers receive periodic notifications via email or letter regarding the status of the search, including the outcome of an unsuccessful match.

II. Rationale for Creation of a New USPS Privacy Act Systems of Records

Mail Recovery Center (MRC) records and the Mail Recovery Center System (MRCS) records have previously been covered by USPS SOR 830.000 Customer Service and Correspondence. USPS SOR 830.100, Mail Recovery Center Search and Inventory System Records is being created to support the implementation of enhanced scanning functionality and to consolidate other related functions performed by the MRC, covering all records under one SOR.

Some of the undeliverable letter mail sent to the MRC may potentially contain items of value such as checks, cash, and coins, requiring further processing and handling. Mail Recovery Center (MRC) operations currently use a technology solution and equipment for the downstream processing of undeliverable letter mail that may contain contents of potential value such as checks, cash, and coins. The MRC is working towards updating and implementing new scanner technology and software to capture a greater percentage of letter mail volume for customer returns and inquiries. This new technology will enhance the ability to capture images of lost checks in a digital format, then integrate the lost check process into similar processes currently used to search for other items held in inventory. The new scanner technology will enable the MRC to improve efficiency, reduce operating costs, and increase the capacity to scan and hold more images of letter mail in digital format. The implementation of this new technology supports the overall mission of the MRC by increasing the likelihood for returning missing mail to customers and improving the customer experience.

The primary source of customer communication will be channeled through the MRCS missing mail search request application hosted on USPS.COM. Customers will have the ability to submit search requests specifically for missing letter mail, including checks. MRC operations will also be enhanced by increasing the ability to let customers know that their undeliverable check was received by the MRC, by sending them a redacted scanned image of the original check, and notifying them that the check has been shredded to preserve the confidentiality and privacy of their personal information.

III. Description of the New or Modified System of Records

Pursuant to 5 U.S.C. 552a(e)(11), interested persons are invited to submit written data, views, arguments or comments on this proposal. A report of the proposed new SOR has been sent to Congress and to the Office of Management and Budget (OMB) for their evaluations. The Postal Service does not expect this new system of records to have any adverse effect on individual privacy rights. The new USPS Customer System of Records is provided below in its entirety.

SYSTEM NAME AND NUMBER:

USPS 830.100 Mail Recovery Center Search and Inventory System Records.

SECURITY CLASSIFICATION:

None.

SYSTEM LOCATION:

Mail Recovery Center System (MRCS), located in St. Louis, MO (IT operations in St. Louis Solutions Center). Applications and database servers are located in Eagan, MN.

Customer letters and redacted images of scanned checks that are recovered in undeliverable mail are currently processed through the National Printing Center (Topeka Material Distribution Center, located in Topeka, KS), with servers located in Eagan, MN.

SYSTEM MANAGER(S):

Vice President, Supply Management United States Postal Service, 475 L'Enfant Plaza SW, Washington, DC 20260.

AUTHORITY FOR MAINTENANCE OF THE SYSTEM:

39 U.S.C. 401, 403, 404, and 39 U.S.C. 406.

PURPOSE(S) OF THE SYSTEM:

1. To facilitate recovery of mailpieces and packages or mailpiece and package contents that are undeliverable as addressed or lost in the mail, by attempting to identify and provide notice to the intended recipient or sender.

2. To alert customers about the status of missing mail search requests.

3. To facilitate timely responses to customer inquiries and missing mail search requests and to foster a positive customer experience.

4. To safeguard mailpieces and packages or mailpiece and package contents that are undeliverable as addressed and items that are found loose in the mail.

5. To enable review and response services for customer inquiries related to reports of lost or missing mail pieces, packages, and their contents.

6. To support the scanning and indexing of information obtained from the outside of undeliverable mail.

7. To support the scanning and indexing of information and materials obtained from mail and package contents that are found in undeliverable mail and packages or loose in the mail.

8. To facilitate the matching of descriptions of items and mailpieces in the MRC physical inventory with descriptions of items and mailpieces from missing mail search requests.

CATEGORIES OF INDIVIDUALS COVERED BY THE SYSTEM:

This system contains records relating to residential customers, business customers, and government agencies or entities that have made inquiries or submitted missing mail requests about lost and missing mail or mailpiece contents.

“Customers” are defined as any sender or intended recipient of undeliverable as addressed mail and packages, or any items that arrive at the MRC that have been identified as loose in the mail.

CATEGORIES OF RECORDS IN THE SYSTEM:

1. Mailer/Sender information: Customer name, mailing address, email address, phone and/or fax number, company name and contact information.

2. Addressee/Sender information: Recipient name, mail address, email address, phone and/or fax number, and company name and contact information.

3. Product and/or service use information: Product and/or service type, product numbers, technology specifications, quantity ordered, logon and product use dates and times, case number, pickup number, article number, ticket number, mail piece tracking/bar code number or numbers, missing mail search ID number, missing mail search request status; S10 13-character item identifier or any bilaterally agreed identifier (Customs Data).

4. Customer preferences: Requested mode of contact

5. Customer search request preferences: Individual customer preferences related to email and contact/mailing information

6. Service inquiries and correspondence: Contact history; nature of inquiry, dates and times, comments, status, resolution, customer notifications, missing mail search requests, and USPS personnel involved.

7. Description of mail contents.

8. Scanned Images: Electronic files containing scanned images of mail piece contents captured for mail recovery purposes; and scanned images of mail piece contents uploaded and attached to missing mail search requests or checks recovered from undeliverable as addressed mail.

9. Mailpiece data: Mail piece return address, destination address of mail piece; Intelligent Mail barcode (IMb); 11-digit delivery point ZIP Code; purchased service, and delivery status.

10. Other mailing data: Information captured from the exterior of the mailpieces and packages, including postage amount, postmark information, destination of mailing, IMb, ZIP Code information and barcode, package label, Special Services label, article number, tracking number and permit numbers.

11. MRCS Missing Mail search request: Sender mailing address, recipient mailing address, size and type of container or envelope used, identifying information such as the USPS Tracking number(s), the mailing date from the mailing receipt, or Click-N-Ship® label receipt, description of the contents, and pictures that could help in recognizing the item(s).

RECORD SOURCE CATEGORIES:

Residential customers, business customers, and government agencies or entities that submit Missing Mail Search Requests. USPS employees and MRC personnel that respond to inquiries and search requests, or process undeliverable as addressed mail and items found loose in the mail,

USPS employees who submit a Missing Mail Search Requests on behalf of the customer.

MRC personnel who enter items into inventory for the purposes of finding a potential match to items submitted via Missing Mail Search Requests.

Descriptions of physical items and/or mailpieces that have been entered into physical inventory by MRC personnel.

MRCS records are comprised of:

• Descriptions of items and mailpieces in physical inventory that have arrived at the MRC and meet holding criteria.

• Descriptions of items and mailpieces from missing mail search requests.

ROUTINE USES OF RECORDS MAINTAINED IN THE SYSTEM, INCLUDING CATEGORIES OF USERS AND PURPOSES OF SUCH USES:

Standard routine uses 1. through 7., 10., and 11. apply, in addition:

Records may also be disclosed to Joint Military Command contacts for the purposes of determining sender or recipients of undeliverable as addressed military mail (domestic and international).

POLICIES AND PRACTICES FOR STORAGE OF RECORDS:

Automated database, computer storage media, digital files, and paper files.

POLICIES AND PRACTICES FOR RETRIEVAL OF RECORDS:

Records are retrievable by customer name, inquiry number, search request number, ZIP Code, and tracking numbers.

POLICIES AND PRACTICES FOR RETENTION AND DISPOSAL OF RECORDS:

1. All inventory (included scanned images) and missing mail search request data is considered active until the established expiration/retention date of a mail piece in inventory PLUS an additional six months. After the additional six-month timeframe, data (inventory and missing mail search requests) will be archived for 3 years (minus attachments/images).

2. After a match is made—All inventory and search request data is considered active for six months after a match is made. After the additional six-month timeframe, data (inventory and search requests) should be archived for 3 years (minus attachments/images).

3. After the 3-year archive period, all inventory and missing mail search requests will be purged.

4. Records existing on paper are destroyed by pulping or shredding. Records existing on computer storage media are destroyed according to the applicable USPS media sanitization practice.

5. Unless otherwise specified, records are maintained indefinitely for missing mail search requests which do not have an expiration date.

ADMINISTRATIVE, TECHNICAL, AND PHYSICAL SAFEGUARDS:

Paper records, computers, and computer storage media are located in controlled-access areas under supervision of program personnel. Access to the facility is limited to authorized personnel, who must be identified with a badge. The facility is not open to the public. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software. Access is controlled by logon ID and password. Online data transmissions are protected by encryption.

MRC (On-site System Access and Facility Access)—Paper records, computers, and computer storage media are located in controlled-access areas under supervision of program personnel. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software. Online data transmissions are protected by encryption.

Access to the MRC facility is limited to authorized personnel, who must be identified with a badge. The facility is not open to the public.

Status of Missing Mail Search Requests are viewable by any USPS employee via the MRCS application. The information displayed contains no personally identifiable information and is limited to Missing Mail Search ID number, mailpiece tracking or barcode number, status of Missing Mail Search Request, date entered, date modified, submission method, Missing Mail Search Request expiration date, email notification history, and an indicator that a photo is or is not included in the search request (but the actual photo is not viewable).

Missing Mail Search Requests submitted by USPS personnel on behalf of a customer via MRCS are accessible only by MRC employees.

Records maintained in Mail Recovery Center System (MRCS) are only retrievable and viewable by MRC employees who need the information to perform their jobs.

Missing Mail Search Requests submitted by customers via the Missing Mail Application at www.usps.com are accessible only by the customer who submitted the Missing Mail Search Request and MRC employees. This also includes Missing Mail Search Requests that have not yet been submitted (draft form), have been closed, or have not yet been fulfilled.

Any internal USPS requests for a specific Missing Mail Search Request must be accompanied by the customer's expressed consent.

RECORD ACCESS PROCEDURES:

Requests for access must be made in accordance with the Notification Procedure above and USPS Privacy Act regulations regarding access to records and verification of identity under 39 CFR 266.5.

CONTESTING RECORD ACCESS PROCEDURES:

See Notification Procedure and Record Access Procedures.

NOTIFICATION PROCEDURES:

Customers wanting to know if information about them is maintained in this system of records must address inquiries to the system manager in writing. Inquiries should include name, address, email address and other identifying information that confirms the requestor's identity.

EXEMPTIONS PROMULGATED FOR THE SYSTEM:

None.

HISTORY:

None.

Ruth Stevenson,
Chief Counsel, Federal Compliance.

[FR Doc. 2021-00530 Filed 1-12-21; 8:45 am]

BILLING CODE 7710-12-P